DEPARTMENT OF HOMELAND SECURITY

U.S. Customs and Border Protection

DEPARTMENT OF THE TREASURY

19 CFR Part 12

[CBP Dec. 21-09]

RIN 1515-AE64

Import Restrictions Imposed on Categories of Archaeological and Ethnological Material of Turkey

AGENCY: U.S. Customs and Border Protection, Department of Homeland Security; Department of the Treasury.

ACTION: Final rule.

SUMMARY: This final rule amends the U.S. Customs and Border Protection (CBP) regulations to reflect the imposition of import restrictions on certain categories of archaeological and ethnological material from the Republic of Turkey (Turkey). These restrictions are being imposed pursuant to an agreement between the United States and Turkey that has been entered into under the authority of the Convention on Cultural Property Implementation Act. This final rule amends the CBP regulations by adding Turkey to the list of countries which have a bilateral agreement with the United States that imposes cultural property import restrictions. This final rule also contains the Designated List that describes the types of archaeological and ethnological material to which the restrictions apply.

DATES: Effective on June 16, 2021.

FOR FURTHER INFORMATION CONTACT: For legal aspects, Lisa L. Burley, Chief, Cargo Security, Carriers and Restricted Merchandise Branch, Regulations and Rulings, Office of Trade, (202) 325-0300, ot-otrrculturalproperty@cbp.dhs.gov. For operational aspects, Pinky Khan, Branch Chief, Commercial Targeting and Analysis Center, Trade Policy and Programs, Office of Trade, (202) 325-3839, CTAC@cbp.dhs.gov.

SUPPLEMENTARY INFORMATION:

Background

The Convention on Cultural Property Implementation Act, Public Law 97-446, 19 U.S.C. 2601 et seq. (hereinafter, “the Cultural Property Implementation Act”) implements the 1970 United Nations Educational, Scientific and Cultural Organization (UNESCO) Convention on the Means of Prohibiting and Preventing the Illicit Import, Export and Transfer of Ownership of Cultural Property (hereinafter, “the Convention” (823 U.N.T.S. 231 (1972)). Pursuant to the Cultural Property Implementation Act, the United States entered into a bilateral agreement with the Republic of Turkey (Turkey) to impose import restrictions on certain archaeological and ethnological material from Turkey. This rule announces that the United States is now imposing import restrictions on certain archaeological and ethnological material from Turkey.

Determinations

Under 19 U.S.C. 2602(a)(1), the United States must make certain determinations before entering into an agreement to impose import restrictions under 19 U.S.C. 2602(a)(2). On March 27, 2020, the Assistant Secretary for Educational and Cultural Affairs, United States Department of State, after consultation with and recommendation by the Cultural Property Advisory Committee, made the determinations required under the statute with respect to certain archaeological and ethnological material originating in Turkey that is described in the Designated List set forth below in this document.

These determinations include the following: (1) That the cultural patrimony of Turkey is in jeopardy from the pillage of archaeological material representing Turkey's cultural heritage dating from approximately 1.2 million years ago to A.D. 1770, and ethnological material dating from approximately the 1st century A.D. to A.D. 1923; (2) that the Turkish government has taken measures consistent with the Convention to protect its cultural patrimony (19 U.S.C. 2602(a)(1)(B)); (3) that import restrictions imposed by the United States would be of substantial benefit in deterring a serious situation of pillage and remedies less drastic are not available (19 U.S.C. 2602(a)(1)(C)); and (4) that the application of import restrictions as set forth in this final rule is consistent with the general interests of the international community in the interchange of cultural property among nations for scientific, cultural, and educational purposes (19 U.S.C. 2602(a)(1)(D)). The Assistant Secretary also found that the material described in the determinations meets the statutory definition of “archaeological or ethnological material of the State Party” (19 U.S.C. 2601(2)).

The Agreement

On January 19, 2021, the United States and Turkey signed a bilateral agreement, “Memorandum of Understanding between the Government of the United States of America and the Government of the Republic of Turkey Concerning the Imposition of Import Restrictions on Categories of Archaeological and Ethnological Material of Turkey” (“the Agreement”), pursuant to the provisions of 19 U.S.C. 2602(a)(2). The Agreement entered into force on March 24, 2021, upon the exchange of diplomatic notes, and enables the promulgation of import restrictions on categories of archaeological material, ranging in date from approximately 1.2 million years ago to A.D. 1770, and ethnological material, ranging in date from the 1st century A.D. to A.D. 1923, representing Turkey's cultural heritage. A list of the categories of archaeological and ethnological material subject to the import restrictions is set forth later in this document.

Restriction and Amendment to the Regulations

In accordance with the Agreement, importation of material designated below is subject to the restrictions of 19 U.S.C. 2606 and § 12.104g(a) of title 19 of the Code of Federal Regulations (19 CFR 12.104g(a)) and will be restricted from entry into the United States unless the conditions set forth in 19 U.S.C. 2606 and § 12.104c of the CBP Regulations (19 CFR 12.104c) are met. CBP is amending § 12.104g(a) of the CBP Regulations (19 CFR 12.104g(a)) to indicate that these import restrictions have been imposed.

Import restrictions listed as 19 CFR 12.104g(a) are effective for no more than five years beginning on the date on which the Agreement enters into force with respect to the United States. This period may be extended for additional periods of not more than five years if it is determined that the factors which justified the Agreement still pertain and no cause for suspension of the Agreement exists. The import restrictions will expire on March 24, 2026, unless extended.

Designated List of Archaeological and Ethnological Material of Turkey

The Agreement between the United States and Turkey includes, but is not limited to, the categories of objects described in the Designated List set forth below. Importation of material on this list is restricted unless the material is accompanied by documentation certifying that the material left Turkey legally and not in violation of the export laws of Turkey.

The Designated List includes archaeological material from Turkey ranging in date from approximately 1.2 million years ago to A.D. 1770, and ethnological material from Turkey from the 1st century A.D. to the end of the Ottoman Empire with the foundation of the Republic of Turkey in A.D. 1923.

Categories of Archaeological and Ethnological Material

I. Archaeological Material

A. Stone

B. Metal

C. Ceramic, Terracotta, and Faience

D. Bone, Ivory, and Other Organic Material

E. Wood

F. Glass

G. Plaster and Stucco

H. Textile

I. Leather, Parchment, and Paper

J. Rock Art, Paintings, and Drawings

K. Mosaics

II. Ethnological Material

A. Architectural Elements

B. Funerary Objects

C. Ritual and Ceremonial Objects

D. Paintings

E. Written Records

F. Military Material

I. Archaeological Material

Archaeological material covered by the Agreement includes material from Turkey ranging in date from approximately 1,200,000 B.C. to A.D. 1770. Examples of archaeological material covered by the agreement include, but are not limited to, the following objects:

Simplified Chronology

Paleolithic: c. 1,200,000-10,000 B.C.

Neolithic: c. 10,000-5500 B.C.

Chalcolithic: c. 5500-3200 B.C.

Bronze Age: 3200-1200 B.C.

Hattis: 2500-2000 B.C.

Assyrian Trade Colonies: 2000-1750 B.C.

Hittites: 1800-1200 B.C.

Mycenaean: 1600-1200 B.C.

Iron Age: 1200-750 B.C.

Protogeometric and Geometric Periods: 1100-700 B.C.

Phyrigians: 1200-680 B.C.

Neo-Hittite City States: 1200-700 B.C.

Urartians: 900-580 B.C.

Orientalizing Period: 750-600 B.C.

Lydians: 700-540 B.C.

Karians and Lykians: 700-300 B.C.

Archaic Period: 650-474 B.C.

Classical Period: 480-330 B.C.

Persian Period: 546-331 B.C.

Macedonian Empire and Hellenistic Period: 334-30 B.C.

Roman Period: 130 B.C.-A.D. 395

Byzantine (Eastern Roman) Period: A.D. 395-1453

Seljukian Period: A.D. 1071-1308

Anatolian Beyliks Period: A.D. 1256-1522

Islamic/Ottoman Period: A.D. 1299-1923

A. Stone

1. Sculpture

a. Architectural Elements—Primarily in basalt, limestone, and marble; including blocks from walls, floors, and ceilings; acroterion, antefix, architrave, columns, capitals, bases, lintels, jambs, friezes, pediments, tympanum, metopes, and pilasters; doors, door frames, and window fittings; caryatids, columns, altars, prayer niches, mihrab, screens, wellheads, fountains, mosaics, and tiles. This category also includes relief and inlay sculpture that may have been part of a building, such as friezes of sculpted stone figures set into inlaid stone or bitumen backgrounds. May be plain, molded, carved, or inscribed. Decorative motifs may be incised or in high relief. Approximate date: 10th millennium B.C. to the 18th century A.D.

b. Monuments and Stelae—Types include triumphal arches and columns, obelisk, herms, and stone blocks. This category also includes votive and funerary stelae with or without relief sculpture and/or inscriptions, usually in limestone, basalt, and marble. Common subject matter also includes human and animal figures, floral motifs, and geometric designs. Approximate date: 10th millennium B.C. to the 18th century A.D.

c. Sarcophagi and Ossuaries—In marble and limestone. The sides and lids of sarcophagi and ossuaries (osthoteks) may have relief sculptures of human and animal figures, inscriptions, monograms, and floral and geometric decoration. Approximate date: 10th millennium B.C. to the 18th century A.D.

d. Large Statuary—Primarily in basalt and marble, some examples in limestone, steatite (soapstone), and other types of stone. Subject matter includes human, animal, and mythological figures, icons, busts, models, molds, and groups of figures in the round, as well as parts of figures commonly used for adoration such as hands, arms, and phallus. Approximate date: 10th millennium B.C. to the 18th century A.D.

e. Small Statuary—This type includes humans, deities (idols), mythological creatures, animals, and groups of figures in the round, as well as parts of figures. Some early examples of human idols are stylized, such as “violin-shaped” figures. Approximate date: 10th millennium B.C. to the 18th century A.D.

f. Small Scale Inlay Sculpture—Small-scale examples include flat, cut-out figures in light-colored stones set against dark stone or bitumen backgrounds. These may decorate boxes or furniture. Subject matter includes narrative scenes such as warfare and banquet scenes. Approximate date: 10th millennium B.C. to the 18th century A.D.

g. Furniture—In limestone, basalt, and marble. Types include tables (trapezas), one-legged tables (monopodias), thrones, fulcras, and beds. Approximate date: 10th millennium B.C. to the 18th century A.D.

2. Vessels—In marble, steatite, rock crystal, and other stone. These may belong to conventional shapes such as bowls, cups, jars, jugs, and lamps, or may occur in the shape of a human or animal, or part of human or animal. Approximate date: 10th millennium B.C. to the 18th century A.D.

3. Tools and Weapons—In flint, quartz, obsidian, silex, limestone, and other hard stones. Types of stone tools include large and small blades, borers, scrapers, sickles, awls, harpoons, cores, and arrow heads. Ground stone types include grinders (e.g., mortars, pestles, millstones, whetstones), choppers, axes, hammers, molds, and mace heads. Approximate date: 1.2 million years ago to the 18th century A.D.

4. Seals and Stamps—These are small devices with at least one side engraved with a design for stamping or sealing, often in marble, limestone, and various semiprecious stones including rock crystal, amethyst, jasper, agate, steatite, and carnelian. This category includes seals, scarabs and scaraboids, and gems engraved with a design, scene, pattern, or inscription. Shapes can include cylinders, buttons, and prismatic. Approximate date: 10th millennium B.C. to the 18th century A.D.

5. Jewelry and Beads—Jewelry of or decorated with colored and semi-precious stones, including beads, necklaces, pendants, cameos, crowns, earrings, finger rings, bracelets, anklets, belts, girdles, pins, hair ornaments, and arm bands. May be incised or cut as gems or cameos. Approximate date: 1.2 million years ago to the 18th century A.D.

B. Metal

1. Sculpture

a. Large Statuary and Portraits—Primarily in bronze, in a variety of styles. Subject matter includes human, animal, and mythological figures, icons, busts, and groups of figures in the round, as well as parts of figures commonly used for adoration such as hands, arms, and phallus. Sarcophagi lids, including kline lids with recumbent figures, are also included. Approximate date: 5th millennium B.C. to the 18th century A.D.

b. Small Statuary—In bronze, copper, gold, silver, electrum, iron, and lead. Subject matter includes human, animal, and mythological figures. In early examples, idols representing deities for religious purposes may be very stylized, such as twin idols, or semi-circular idols. Approximate date: 5th millennium B.C. to the 18th century A.D.

c. Reliefs—In bronze, copper, gold, silver, electrum, iron, and lead. Types include plaques, appliqués, burial masks, and leaves. Approximate date: 5th millennium B.C. to the 18th century A.D.

d. Inscribed and Decorated Metal Sheets and Plates—In bronze, copper, gold, silver, electrum, iron, and lead. Thin metal sheets with engraved or impressed designs, often used as attachments to furniture. Approximate date: 5th millennium B.C. to the 18th century A.D.

2. Vessels—In bronze, copper, gold, silver, electrum, iron, and lead. This type includes conventional forms such as pitchers, bowls, cauldrons, jugs, globular flasks (aryballos), goblets, phials, ladles, lamps, and candelabra. Objects may be in conventional shapes or may be in human or animal shapes. Approximate date: 5th millennium B.C. to the 18th century A.D.

3. Jewelry and Personal Adornment—In bronze, copper, gold, silver, electrum, iron, and lead. This type includes earrings, ear caps, finger rings, beads, bracelets, cuffs, necklaces, pendants, straight and safety pins (fibulae), crowns, wreaths, diadems, fibulas, pectoral decorated sheets, belts, buckles, and textile decorations. Approximate date: 5th millennium B.C. to the 18th century A.D.

4. Tools—This category includes hammers, saws, hooks, axes, chisels, scissors, scrapers (strigils), weights, bells, trowels, mirrors, forks, spoons, nails, scales, curling rods (calamistrum), locks, keys, ingots, medical tools such as forceps, probes, and cautery tools, and door knockers which may be in the form or human or animal figures. Approximate date: 5th millennium B.C. to the 18th century A.D.

5. Weapons and Armor—In bronze, copper, gold, silver, electrum, iron, and lead. This category includes common weapon types, such as daggers, arrows, swords, spears, harpoons, javelins, axes, rapiers, and maces. Body armor is also included, such as helmets, shields, cuirasses, horse armor, and chariot decoration. Some may have inscriptions or be otherwise decorated. Approximate date: 5th millennium B.C. to the 18th century A.D.

6. Seals and Stamps—These are small devices with at least one side engraved with a design for sealing or stamping, often in bronze, copper, gold, silver, electrum, iron, or lead. Types include rings, amulets, stamps, and seals with shank. Approximate date: 5th millennium B.C. to the 18th century A.D.

7. Ceremonial Objects—Ritual and ceremonial objects pertaining to Turkey's religious communities, in bronze, copper, gold, silver, electrum, iron, and lead. This type includes libation vessels, ritual cauldrons and pitchers, rhytons, masks, chalices, plates, censers, candelabras, crosses, pendants, bells, reliquaries, liturgical spoons, Kiddush cups, book covers and boxes, decorated book spines, Torah pointers, finials, and ampoules. Approximate date: 5th millennium B.C. to the 18th century A.D.

8. Musical Instruments—Trumpets, clappers, sistrums, castanets, cymbalon, aulos, plagiaulos, cornu, lituus, buccina, tuba, hydraulis, lyre, xylophone, and metal parts of other instruments otherwise primarily in wood or bone. Approximate date: 5th millennium B.C. to the 18th century A.D.

9. Coins

a. Greek coins—Archaic coins, dated to 640-480 B.C., in electrum, silver and billon, that circulated primarily in Turkey; Classical coins, dated to 479-332 B.C., in electrum, silver, gold, and bronze, that circulated primarily in Turkey; and Hellenistic coins, dated to 332-31 B.C., in gold, silver, bronze and other base metals, that circulated primarily in Turkey. Greek coins were minted by many authorities for trading and payment and often circulated all over the ancient world, including in Turkey. All categories are based on find information provided in Thompson, M., Mørkholm, O., Kraay, C., Inventory of Greek Coin Hoards, 1973 (available online at http://coinhoards.org/) and the updates in Coin Hoards I-X as well as other hoard and single find publications. Mints located in Turkey and surrounding areas are found in Head, B. V., Historia Numorum, A Manual of Greek Numismatics, 1911 (available online at http://snible.org/coins/hn/).

b. Roman provincial coins—Roman provincial coins, dated from the end of 2nd century B.C. to the early 6th century A.D., in gold, silver, and bronze and copper that circulated primarily in Turkey.

c. Byzantine period coins—Byzantine period coins, in gold, silver, bronze, copper coins, and sometimes electrum, dating from the early 6th century to the 15th century A.D., that circulated primarily in Turkey, (e.g., coins produced at mints in Nicaea and Magnesia under the Empire of Nicaea).

d. Medieval and Islamic coins—Medieval and Islamic coins, in gold, silver, bronze, and copper coins from approximately A.D. 1077-1770, that circulated primarily in Turkey.

C. Ceramic, Terracotta, and Faience

1. Sculpture

a. Architectural Elements—Baked clay (terracotta) elements used to decorate buildings. Elements include tiles, roof coverings, antefixes, plates, and decorative elements such as reliefs, votive tablets (pinakes), friezes and acroters, and wall decorations such as cones, glazed bricks, and decorated knobs. Approximate date: 2nd millennium B.C. to the 18th century A.D.

b. Sarcophagi and Ossuaries—Sarcophagi and coffins, with separate lids, either in the form of a large rectangular box, or human-shaped and carved with modeled human features. Sarcophagi may be painted, inlaid, and/or decorated with incised or sculpted relief of floral or geometric motifs and inscriptions. Ossuaries are rectangular or in the shape of stylized animals and may be decorated. Approximate date: 2nd millennium B.C. to the 18th century A.D.

c. Large Statuary—Subject matter includes human and animal figures, icons, models, molds, and groups of figures in the round. Common types are large-scale, free-standing statuary approximately 1-2.5 m. in height and life-size busts (head and shoulders of an individual). Approximate date: 5th millennium B.C. to the 18th century A.D.

d. Small Statuary—Subject matter is varied and includes humans, deities (idols), mythological creatures, animals, and groups of figures in the round, as well as parts of figures. These range in height: Approximately 10 cm.-1 m. Approximate date: 5th millennium B.C. to the 18th century A.D.

e. Terracotta Plaques—These are produced by carving or using molds; may have a variety of subject matter. Type also includes molds and models used in production. Approximate date: 5th millennium B.C. to the 18th century A.D.

f. Models—These are small-scale objects in terracotta, including chariots, boats, buildings, and furniture such as chairs and beds. Approximate date: 11th millennium B.C. to the 18th century A.D.

2. Vessels—Ceramic types, forms, and decoration vary among archaeological styles over time. Forms may be handmade or produced with ceramic lathe, plain or decorated, and may be glazed, unglazed, varnished, painted, engraved, and/or incised. They may be produced in Turkey or imported into Turkey at or near the time of production. Some of the most well-known types are highlighted below:

a. Neolithic and Chalcolithic Period—This type includes bowls, cups, jars, pots, urns, and ritual vessels in the shape of a woman or animal. Some examples are painted with yellow, brown, or red; patterns include concentric circles, horizontal lines, and geometric motifs over cream or red slip.

b. Early Bronze Age—This type includes two-handled goblets (depas amphikypellon), beak-spouted pitchers, anthropomorphic jars, pedestal bowls, amphorae, vases, double-/triple-/quadruple vessels (two or more cups or bowls attached at a central point to form a single vessel), mugs, boxes, and small pots with lids (pyxis).

c. Middle and Late Bronze Age—This type includes Assyrian Trade Colonial, Hittite, and early Mycenaean pottery. In this period, ceramic lathe and glaze techniques became common and forms became thinner. Type includes ceremonial vessels in the shape of animals (rythons), plates, double-handled drinking vessels (kantharos), bathing bowls, and vases.

d. Geometric, Orientalizing, Archaic, and Classical Periods—This type includes vessels used for holding oil or perfume (alabastron, lekythos, aryballos, lydion), jars used for storage (amphorae, pelike, pithoi, hydria), pitchers and jugs (oinochoe, olpe), boxes for holding cosmetics or jewelry (pyxis), drinking cups (kylix, kantharoi, skyphoi), tankards, other vessels (krater, askos), ceremonial vases (lebes gamikos), plates, and lamps. Black-figure technique was common in Greek city-states in Western Anatolia, starting in 7th century B.C. Vessels in this technique are decorated with black painted figures on a clear clay ground. Vessels with red-figure technique (decorative elements in reserve with background fired black) are also common in Western Anatolia. Most black- and red-figure vessels are decorated with scenes of daily life or mythology.

e. Hellenistic and Roman Periods—This type includes vessel forms noted in previous time periods, as well as small bottles (unguentarium) and wine jars (lagynos). There is less decorative painting in this period; instead, types display simple motifs and/or reliefs. Fine red Roman tableware (terra sigillata) is also common.

f. Byzantine Period—Vessel types include amphorae, bowls, plates, chalices, beakers, and special shapes such as pilgrim flasks. Types include red slipwares, as well as glazed and unglazed vessels. Unglazed wares are usually undecorated; other examples may be decorated with various techniques and motifs such as human figures, animals, florals, and other symbolic motifs.

g. Islamic Period—Early examples include green and turquoise vessels that may be in the vessel shapes mentioned above. In addition, this type includes inkstands, chalices, lamps, rose water flasks, censers, incense cases, kitchenware, and tableware. Sizes and shapes are varied; colors include blue-white, red, blue, yellow, purple, and green and may include floral or other painted or inscribed decorations.

3. Objects of Daily Use—This type includes objects of daily use including toys, weights, and lamps. Approximate date: 5th millennium B.C. to the 18th century A.D.

4. Seals, Stamps, and Tablets—This type includes cuneiform tablets from Anatolia during the Assyrian Colonial Period and Hittite Period; some tablets may be encased with a clay envelope. This type also includes seals used to mark ceramics, textiles, leather, other organic materials, and live animals. Approximate date: 5th millennium B.C. to the 18th century A.D.

5. Islamic Period Tiles—Tiles were used mainly for adorning walls, roofs, and floors of buildings such as mosques, masjids, mausoleums, and palaces. During the Seljuk Period, common motifs included star and cross, mythological creatures, human and animal figures, natural and floral motifs, geometric motifs, and inscriptions. During the Ottoman Period, most tiles are decorated with floral motifs, including the saz style with composite flowers and saz leaves. Glazed bricks used in this period are also included. Approximate date: 11th century to the 18th century A.D.

D. Bone, Ivory, and Other Organic Material

1. Small Statuary and Figurines—This type includes human, animal, and other figures in the round. Size may range between 5 cm.-1 m. in height. Approximate date: c. 20,000 B.C. to the 18th century A.D.

2. Objects of Daily Use—This type includes materials in bone, ivory, mother of pearl, seashell, and tortoise shell that may be used as decoration or inlay for architectural elements, furniture, or relief plaques. Type also includes amulets and pendants, other jewelry and beads, buckles, combs, pins, pyxis, boxes, needles, dice, mirror backs, handles, carved diptychs, writing and painting equipment, and musical instruments. Approximate date: 350,000 B.C. to the 18th century A.D.

3. Seals and Stamps—These are small objects with at least one side with engraved designs for stamping or sealing. They may be cuboid, conoid, or in the shape of animals or mythological creatures. Approximate date: 7th millennium B.C. to the 18th century A.D.

4. Weapons and Tools—Bone, ivory, and horn were also used to produce and decorate weapons and tools. In addition to conventional types, such as needles, awls, chisels, picks, knives, spearheads, and blades, these materials were also used for zighir (thumb ring used to draw a bow) and wrist shields. Found as early as 1.2 million years ago.

5. Human and Animal Remains—Skeletal remains from human and animal bodies, preserved in burials or other contexts. Some examples may be plastered or painted with ochre. Found as early as 1.2 million years ago.

E. Wood

1. Architectural Elements—This type includes walls, ceilings, floors, panels, balconies, doors, altars, parts of vaults, minbar, mihrab, muqarnas, decorative elements, ladders, or pieces of any of these objects. May be engraved, painted, inlaid, or otherwise decorated. Approximate date: 9th millennium B.C. to the 18th century A.D.

2. Objects of Daily Use—This type includes furniture such as chairs, stools, beds, tables, chests, and desks; kitchen and tableware, book cases, book holders, lecterns, prayer panels, carved diptychs, writing and painting equipment, games, game boxes, combs, clasps, needles, beads, and musical instruments. May be engraved, painted, inlaid, or otherwise decorated. Approximate date: 9th millennium B.C. to the 18th century A.D.

3. Tools and Weapons—This includes bows, arrows, knives, axe and adze handles, bow drills, and spears. Approximate date: 9th millennium B.C. to the 18th century A.D.

4. Ships and Other Vehicles—This includes whole or pieces used in composing a ship, chariot, or any other vehicle. Approximate date: 7th millennium B.C. to the 18th century A.D.

F. Glass

1. Architectural Elements—This includes glass inlay and tesserae pieces from floor and wall mosaics, mirrors, and windows. Approximate date: 4th millennium B.C. to the 18th century A.D.

2. Vessels—This type includes containers for holding perfume or oil (alabastron, unguanteria, aryballos), wine jugs (oinochoe), other drinking, storage, and serving vessels of various shapes and sizes, and lighting objects such as lamps. Approximate date: 2nd millennium B.C. to the 18th century A.D.

3. Beads and Jewelry—Jewelry such as bracelets and rings (often twisted with colored glass), pendants, and beads in various shapes (e.g., circular, globular), may be decorated with symbolic and/or floral motifs. This category also includes beads in various shapes including animal figures. Approximate date: 2nd millennium B.C. to the 18th century A.D.

G. Plaster and Stucco—This category includes various types of objects including containers from the pre-pottery Neolithic onward, column capitals, pedestals, wall murals or paintings and other architectural elements, and vessels and containers. These may be plain or painted and/or gilded. Approximate date: 9th millennium B.C. to the 18th century A.D.

H. Textile—These include linen, wool, cotton, and silk. This category includes clothing or clothing fragments, carpets, sanjaks (flags or banners), flag bags, wall hangings, blankets, and textiles used during religious practice. Approximate date: 9th millennium B.C. to the 18th century A.D.

I. Leather, Parchment, and Paper

1. Leather—This category includes bags, furniture parts, masks, shields, cases and containers for a variety of uses, sandals, clothing, and manuscript covers. There are also examples of religious and/or rare books written on leather pages.

2. Papyrus—Documents made from papyrus and written upon in ink. These are often rolled and/or fragmentary. Approximate date: 5th millennium B.C. to the 12th century A.D.

3. Parchment—Writing material made of animal skin and used to produce manuscripts including religious, liturgical, and scientific works. These may be single leaves or bound as books or scrolls. These may also have illustrations or illuminated paintings with gold and other colors. Approximate date: 3rd millennium B.C. to the 18th century A.D.

4. Paper—This includes manuscripts and individual pages thereof, written on paper and bound as books or scrolls. These may also have illustrations. Approximate date: 8th century to the 18th century A.D.

J. Rock Art, Painting, and Drawing

1. Rock Art—This type includes human-made markings on stone, cave walls, or rocks in open air. This type includes petroglyphs (carved into the rock surface); pictographs (painted); and earth figures (formed on the ground). Subject matter may include human and animal figures, deities, geometric designs, and religious signs and markings. Approximate date: 10th millennium B.C. to the 18th century A.D.

2. Wall Paintings—This category includes paintings from buildings and tombs. Several methods were used, such as wet-fresco and dry-fresco, and the paintings may be applied to plaster, wood, or stone. Types include simple applied color, bands and borders, landscapes, scenes of people and/or animals in natural or built settings, and religious themes. Approximate date: 7th millennium B.C. to the 18th century A.D.

3. Panel Paintings (Icons)—An icon is a work of art for religious devotion, normally depicting saints, angels, or other religious figures. These are painted on a wooden panel, often for inclusion in a wooden screen (iconostasis), or else painted onto ceramic panels. May be partially covered with gold or silver, sometimes encrusted with precious or semi-precious stone. Approximate date: 4th century A.D. to the 18th century A.D.

K. Mosaics—May be a combination of small three-dimensional pieces of colored stone or glass (tesserae) to create motifs such as geometric shapes, mythological scenes, floral or animal designs, natural motifs such as landscapes, and daily chores. The opus sectile technique is also used. These were generally applied to walls, ceilings, or floors. Approximate date: 7th century B.C. to the 18th century A.D.

II. Ethnological Material

Ethnological material covered by the agreement includes architectural elements, funerary objects, ritual and ceremonial objects, paintings, written records, and military material that contribute to the knowledge of the origins, development, and history of the Turkish people. This includes objects from the 1st c. A.D. starting in the Roman Empire, through the Byzantine, Seljuk, Beyliks, and Ottoman periods, and ending in A.D. 1923, with the foundation of the Republic of Turkey.

A. Architectural Elements—This category includes architectural elements and decoration from religious and public buildings in all materials. These buildings have distinctive characteristics described below. Examples of architectural elements covered in the Agreement include, but are not limited to, the following objects:

1. Structural and Decorative Architectural Elements—This category includes material from religious or public buildings in stone, ceramic, plaster, wood, and other organic elements, which includes blocks; columns, capitals, bases, lintels, jambs, friezes, and pilasters; panels, doors, door frames, and window fittings; altars, prayer niches (mihrab), screens, iconostasis, fountains, ceilings, tent poles, and carved and molded brick. Metal elements are primarily in copper, brass, lead, and alloys, and may include doors, door fixtures, lathes, finials, chandeliers, screens, and sheets to protect domes. Glass may be incorporated into either structural or decorative elements. This category also includes relief and inlay sculpture, including appliques and plaques that may have been part of a building. May be plain, molded, carved, or inscribed. Decorative motifs may be incised or in high relief.

2. Tiles—Ceramic tiles were often used for adorning walls, roofs, and floors of mosques, masjids, mausoleums, shrines, and palaces. During the Seljuk Period, subject matter included star- and cross-shaped tiles with creatures such as harpies, sphinxes, and double-headed eagles. Human and animal figures were also common, as well as natural motifs such as the tree of life, scrolling branches with pomegranates, floral and geometric patterns, and inscriptions. During the Ottoman Period, subject matter included mainly floral motifs; the saz style motif with composite flowers, smaller rosettes, and saz leaves was also common. This type also includes glazed bricks.

3. Mosaics—May be a combination of small three-dimensional pieces of colored stone or glass (tesserae) to create motifs such as geometric shapes, floral or animal designs, natural motifs such as landscapes, and scenes of religious or historical events. These were generally applied to walls, ceilings, or floors.

B. Funerary Objects—This category includes objects related to funerary rites and burials in all materials. Examples of funerary objects covered in the Agreement include, but are not limited to, the following objects:

1. Sepulchers—Sepulchers are repositories for remains of the dead, in stone (usually marble or limestone), metal, and wood. Types of burial containers include sarcophagi, caskets, coffins, and urns. These may also have associated sculpture in relief or in the round. May be plain or have figural, geometric, or floral motifs either painted or carved in relief. May also contain human or animal remains.

2. Inscriptions, Memorial Stones, Epitaphs, and Tombstones—This category includes inscribed funerary objects, primarily slabs in marble and ceramic; most frequently engraved with Ottoman Turkish, Turkish, Arabic, Greek, Armenian, or Hebrew. These may also have associated sculpture in relief or in the round.

3. Funerary Offerings—This category includes objects in all materials; shrouds and body adornment such as clothing, jewelry, and accessories; idols, figurines, vessels, beads, weapons, or other ritual or ceremonial offerings; and writing implements, books, and manuscripts.

C. Ritual and Ceremonial Objects—This category includes objects for use in religious services (Christian, Islamic, Jewish, and others) or for imperial use by the state (Byzantine Empire, Seljuk Empire, Anatolian Beyliks, and Ottoman Empire). Examples of ritual and ceremonial objects covered in the Agreement include, but are not limited to, the following objects:

1. Religious Objects—This category includes objects in all materials such as lamps, libation vessels, pitchers, chalices, plates, censers, candelabra, crosses and cross pendants, pilgrim flasks, tabernacles, boxes and chests, carved diptychs, liturgical spoons, Kiddush cups, bells, ampoules, Torah pointers and finials, prayer beads, icons, amulets, and Bektashi surrender stones. This type also includes reliquaries and reliquary containers, which may or may not include human remains. Often engraved or otherwise decorated.

2. Imperial—This category includes objects in all materials, such as ceremonial garments, clothing emblematic of imperial position, and other accessories thereof such as shoes, headdresses and hats, belts, and jewelry; objects of imperial office such as scepters, staffs, insignia, relics, and monumental boxes, trays, and containers; flags, flagstaffs, and alem (finials); stamps, seals, and writing implements for official use by the state; tapestries, or other representations of the imperial court; musical instruments; and boats, chariots, and other forms of official transportation, and parts thereof.

3. Furniture—This category includes objects primarily in stone or wood, including altars, tables, platforms, pulpits, fonts, screens, thrones, minbar, lecterns, desks, and other types of furniture used for religious or official imperial purpose.

4. Textiles—Generally in linen, silk, and wool. This category includes textiles and fragments from religious contexts including garments such as tapestries, hangings, prayer rugs and carpets, shrine covers, altar cloths; clothing and accessories such as robes, vestments, kaftans, turbans, hats, and talismanic shirts. Commonly decorated with embroidered designs including religious, floral, and geometric motifs. This category also includes imperial objects such as clothing including vestments and robes; flags and flag bags (sanjaks); and carpets and tapestries.

5. Musical Instruments—This category includes instruments important for religious or imperial ceremonies such as a baglama or saz, tambur, rebab, and ud (string instruments); harps; ney (reed flute); pipes; whistles; kudum (small double drum); kos (drum); kanun (zither); trumpets and bugles; and cymbals.

D. Paintings—This category includes works of paint on plaster, wood, or ceramic from religious or public contexts. Paintings from these periods provide information on social and religious history of the people of Turkey that may be absent from written records. Examples of paintings include, but are not limited to:

1. Wall Paintings—This category includes paintings on various types of plaster, which generally portray religious images and/or scenes of Biblical events. Types may also include simple applied color, bands and borders, animal, floral, and geometric motifs.

2. Panel Paintings (Icons)—Icons are smaller versions of the scenes on wall paintings, and may be partially covered with gold or silver, sometimes encrusted with semi-precious or precious stones and are usually painted on a wooden panel, often for inclusion in a wooden screen. May also be painted on ceramic.

3. Works on Paper—Paintings may be on papyrus, parchment, and paper. Images depicted may include religious scenes, representations of imperial court life, simple applied color, bands and borders, animal, floral, and geometric motifs.

E. Written Records—This category includes written records of religious, political, or scientific importance, including, but not limited to, the following. Works may be on papyrus, parchment, paper, or leather. Papyrus documents are often rolled and/or fragmentary. Parchment and paper documents may be single leaves or bound as scrolls or books. They may have illustrations or illuminated paintings with gold or other colors. There are also examples of Qurans and other religious and/or rare books written on leather pages. This category includes boxes for books or scrolls made of wood or other organic materials, and book or manuscript covers made of leather, textile, or metal.

F. Military Material—This category includes imperial military objects from the Byzantine, Seljuk, Beyliks, and Ottoman periods, in all materials.

1. Uniforms—Uniform clothing either meant to be worn under armor or without, is usually made of textile or leather. This includes clothing emblematic of military position, and other accessories thereof such as shoes, headdresses and hats, belts, and jewelry.

2. Weapons and Armor—These are often in iron, steel, or other metal. This category includes arrows, daggers, swords, saifs, scimitars, other blades with or without sheaths, spears, and pre-industrial firearms and cannon; may be for use in combat or ceremonial. May be inlaid with gemstones, embellished with silver or gold, or engraved with floral or geometric motifs. Grips or hilts may be made of metal, wood, or semi-precious stones such as agate, or bound with leather. Armor may consist of small metal scales, originally sewn to a backing of textile or leather. This type also includes helmets, body armor, shields, and horse armor. Other objects may be made of leather, including archer's bags, shields, and masks. This category also includes: Auxiliary objects such as powder horns and belts; military standards; and boats, chariots, or other means of imperial military transportation.

3. Musical Instruments—These instruments were used to encourage and direct military operations. This category includes pipes and other wind instruments, trumpets and bugles, and drums and other percussion instruments such as the çevgan (a long-handled rattle with bells and chimes).

Inapplicability of Notice and Delayed Effective Date

This amendment involves a foreign affairs function of the United States and is, therefore, being made without notice or public procedure under 5 U.S.C. 553(a)(1). For the same reason, a delayed effective date is not required under 5 U.S.C. 553(d)(3).

Regulatory Flexibility Act

Because no notice of proposed rulemaking is required, the provisions of the Regulatory Flexibility Act (5 U.S.C. 601 et seq.) do not apply.

Executive Order 12866

CBP has determined that this document is not a regulation or rule subject to the provisions of Executive Order 12866 because it pertains to a foreign affairs function of the United States, as described above, and therefore is specifically exempted by section 3(d)(2) of Executive Order 12866.

Signing Authority

This regulation is being issued in accordance with 19 CFR 0.1(a)(1) pertaining to the Secretary of the Treasury's authority (or that of his/her delegate) to approve regulations related to customs revenue functions.

List of Subjects in 19 CFR Part 12

Cultural property, Customs duties and inspection, Imports, Prohibited merchandise, and Reporting and recordkeeping requirements.

Amendment to the CBP Regulations

For the reasons set forth above, part 12 of title 19 of the Code of Federal Regulations (19 CFR part 12), is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624;

* * * * *

Sections 12.104 through 12.104i also issued under 19 U.S.C. 2612;

* * * * *

2. In § 12.104g, the table in paragraph (a) is amended by adding Turkey to the list in alphabetical order to read as follows:

§ 12.104g Specific items or categories designated by agreements or emergency actions.

(a) * * *

State party | Cultural property | Decision No.
* * * * * * *
Turkey | Archaeological material representing Turkey's cultural heritage ranging from approximately 1,200,000 B.C. to A.D. 1770, and ethnological material ranging from the 1st century A.D. to A.D. 1923 | CBP Dec. 21-09.

* * * * *

Troy A. Miller, the Senior Official Performing the Duties of the Commissioner, having reviewed and approved this document, is delegating the authority to electronically sign this notice document to Robert F. Altneu, who is the Director of the Regulations and Disclosure Law Division for CBP, for purposes of publication in the Federal Register.

Robert F. Altneu,
Director, Regulations & Disclosure Law Division, Regulations & Rulings, Office of Trade, U.S. Customs and Border Protection.
Approved: June 11, 2021.
Timothy E. Skud,
Deputy Assistant Secretary of the Treasury.

[FR Doc. 2021-12646 Filed 6-15-21; 8:45 am]

BILLING CODE 9111-14-P